DEPARTMENT OF HOMELAND SECURITY

Bureau of Customs and Border Protection

Notice of Intent To Prepare an Environmental Impact Statement (EIS) and Request for Public Comments Concerning Proposed Construction and Operation of Tactical Infrastructure for the U.S. Customs and Border Protection, Office of Border Patrol San Diego Sector

AGENCY: U.S. Customs and Border Protection, Department of Homeland Security.

ACTION: Notice of Intent to Prepare an Environmental Impact Statement and Request for Public Comments.

SUMMARY: Pursuant to the National Environmental Policy Act of 1969, 42 U.S.C. 4321 et seq. (NEPA), U.S. Customs and Border Protection (CBP) will prepare an Environmental Impact Statement (EIS) to identify and assess the potential impacts associated with a proposal to construct and operate approximately four miles of tactical infrastructure and supporting patrol roads along the U.S./Mexico international border south of and adjacent to Otay Mountain Wilderness area in San Diego County, California (the Proposed Action). The purpose of the Proposed Action is to further CBP's ability to gain effective control of the border by denying pedestrian and other access in this high priority section of the Office of Border Patrol's (OBP's) San Diego Sector. CBP is the decision-making agency for this Proposed Action.

Notice is hereby given that the public scoping process has been initiated to prepare an EIS that will address the impacts and alternatives of the Proposed Action. The purpose of the scoping process is to solicit public comment regarding the range of issues, including potential impacts and alternatives that should be addressed in the EIS.

FOR FURTHER INFORMATION CONTACT: Visit http://www.BorderFenceNEPA.com or e-mail: information@BorderFenceNEPA.com. Written requests for information may be submitted to: Charles McGregor, U.S. Army Corps of Engineers, Engineering Construction and Support Office, 819 Taylor St., Room 3A14, Fort Worth, Texas 76102; Phone: (817) 886-1585; and Fax: (817) 886-6404.

Background: An EIS is being prepared in support of a proposal by OBP's San Diego Sector for controlling and deterring the influx of illegal immigration and contraband into the United States. To assist Border Patrol officers, OBP is proposing to install and operate tactical infrastructure consisting of pedestrian fence, vehicle barriers, supporting patrol roads, lights, and other infrastructure along approximately four miles of the U.S./Mexico international border within OBP's San Diego Sector.

In order to secure the nation's borders, CBP is developing and deploying the most effective mix of proven technology, infrastructure, and increased personnel. In some locations, fencing is a critical element of border security. OBP has identified this area of the border as a location where fence would significantly contribute to CBP's priority mission homeland security. As a part of this Proposed Action, two segments of fence are proposed for construction.

One segment is approximately 3.4 miles long and would start at the Puebla Tree and end at boundary monument 250. The proposed segment would be adjacent to and south of the Otay Mountain Wilderness; would follow the Pack Truck Trail; and would not connect to any existing fence. The Otay Mountain Wilderness is on public lands administered by the Bureau of Land Management (BLM), U.S. Department of the Interior in San Diego County, California. The wilderness boundary is at least 100 feet from the U.S./Mexico border, and the proposed fence would occur in this corridor between the U.S./Mexico border and the wilderness boundary. However, due to steep topography, a portion of road or other tactical infrastructure might encroach into the wilderness area.

The second segment would be approximately 0.6 miles long and would connect with existing border fence west of Tecate. This fence segment is an extension of existing fence up Tecate Peak and would pass through a riparian area. This proposed fence segment would be on privately owned land.

Potential alternatives for environmental impacts analysis will consider location, construction, and operation of tactical infrastructure. Potential alternatives must meet the need to gain effective control of our nation's borders, as well as essential technical, engineering, and economic threshold requirements to ensure that the Proposed Action is environmentally sound, economically viable, and meets all applicable laws and regulations.

The EIS will comply with the National Environmental Policy Act of 1969 (NEPA), the Council on Environmental Quality regulations in 40 CFR Parts 1500-1508, and Department of Homeland Security (DHS) Management Directive 5100.1 (Environmental Planning Program).

Consistent with 40 CFR 1508.28, the EIS will analyze the site-specific environmental impacts of the proposed action which were broadly described in two previous programmatic EISs prepared by the former U.S. Immigration and Naturalization Service (which now falls under the responsibility of CBP), Department of Defense, and Joint Task Force 6 (JTF-6). The Programmatic EIS for JTF-6 Activities Along the U.S./Mexico Border, August 1994, and its supplementing document, Supplemental Programmatic EIS for INS and JTF-6 Activities, June 2001, were prepared to address the cumulative effects of past and reasonably foreseeable projects undertaken by JTF-6 for numerous law enforcement agencies within the four southwestern states (California, Arizona, New Mexico, and Texas). These documents can be obtained from the U.S. Army Corps of Engineers, Fort Worth District, Engineering Construction and Support Office Web site, at https://ecso.swf.usace.army.mil/; by sending an e-mail to charles.mcgregor@swf02.usace.army.mil; or by mailing a request to: Charles McGregor, U.S. Army Corps of Engineers, Engineering Construction and Support Office, 819 Taylor St., Room 3A14, Fort Worth, Texas 76102.

Public Participation: Pursuant to the Council on Environmental Quality's regulations, CBP invites public participation in the NEPA process. This notice requests public participation in the scoping process, establishes a public comment period, and provides information on how to participate.

Public scoping is an open process for determining the scope of the EIS and identifying significant issues related to the proposed action. Anyone wishing to provide comments, suggestions, or relevant information on the Proposed Action may do so as follows:

You may submit comments to CBP by contacting the SBInet, Tactical Infrastructure Program Office. To avoid duplication, please use only one of the following methods:

(a) Electronically through the Web site at: http://www.BorderFenceNEPA.com;

(b) By e-mail to: SDcomments@BorderFenceNEPA.com;

(c) By mail to: San Diego Tactical Infrastructure EIS, c/o e²M, 2751 Prosperity Avenue, Suite 200, Fairfax, Virginia 22031; or

(d) By fax to: (757) 257-7643.

Comments and related material must reach CBP by October 15, 2007. CBP will consider all comments and material received during the NOI comment period. If you submit a comment, please include your name and address, and identify your comments as for the San Diego Sector EIS. Comments received after October 15, 2007 will receive responses following the publication of the draft EIS.

This scoping period is not the only opportunity you will have to comment. A draft EIS will be prepared, and prior to the development of a final EIS, CBP will release the draft EIS for public review. At that time, a Notice of Availability (NOA) will be published in the Federal Register, the San Diego Union Tribune, and the San Diego Daily Transcript. The NOA will announce the availability of the draft EIS, how to obtain a copy, and the dates, times, and places of any associated public informational meetings.

Dated: September 19, 2007.
Eugene H. Schied,
Assistant Commissioner, Office of Finance.

[FR Doc. E7-18830 Filed 9-21-07; 8:45 am]

BILLING CODE 9111-14-P